DEPARTMENT OF ENERGY

Federal Energy Regulatory Commission

[Docket No. CP00-40-001]

Florida Gas Transmission Company; Notice of Amendment

August 10, 2000.

Take notice that on August 1, 2000, Florida Gas Transmission Company (FGT), 1400 Smith Street, P.O. Box 1188, Houston, Texas 77251-1188, filed in Docket No. CP00-40-001 an amendment to its application in Docket No. CP00-40-000, pursuant to Section 7(c) of the Natural Gas Act (NGA) and Part 157 of the Federal Energy Regulatory Commission's (Commission) Regulations, to reflect: (1) changes in Phase V shippers; (2) changes in proposed facilities requirements, including changes in compressor horsepower and pipeline requirements; and (3) pipeline route modifications (including modifications to facilities located in Mobile and Baldwin Counties, AL; and Citrus, Hernando, Bay and Washington Counties, FL) that were requested by landowners, all as more fully set forth in the application which is on file with the Commission and open to public inspection. This filing may be viewed on the web at http://www.ferc.fed.us/online/rims.htm (call 202-208-2222 for assistance).

Any questions regarding the application should be directed to Mr. Stephen T. Veatch, Director of Certificates and Regulatory Reporting, Suite 3997, 1400 Smith Street, Houston, Texas 77002 or call (713) 853-6549.

FGT states that its pipeline and horsepower modifications are due to the requirement to deliver natural gas to the west coast of Florida for Tampa Electric Company, a new shipper, instead of the east coast markets which were to be served by Enron North America Corp. and Dynegy who both exercised rights to terminate their contracts. FGT continue to request that the Commission find that the costs of the proposed Phase V Expansion can be rolled-in to establish rates for service under its incrementally priced Rate Schedule FTS-2. FGT states that the maximum rates applicable to Rate Schedule FTS-2 are expected to be lower as a result of such rolling-in of costs and thus, will not require subsidies from existing shippers.

By this amendment FGT proposes significant changes to the pipeline facilities proposed in its original application. Some of the originally proposed pipeline facilities will be modified (located in Greene County, MS; Mobile and Baldwin Counties, AL; and Gilchrist; Columbia, Suwanee, Bradford, and Clay Counties, FL), some will be deleted (located in Hillsborough, Polk, Volusia, Orange, and Osceola Counties, FL), and there are some new pipeline additions proposed. FGT proposed 35.5 miles of new pipeline additions in Gilchrist, Levy, and Hillsborough Counties, Florida. In addition, compressor horsepower will be modified at seven compressor stations (located in Mobile County, AL; and Santa Rosa, Gadsden, Bradford, Marion, Citrus, and Orange Counties, FL), and a new 14,650 horsepower compressor station will be constructed in Hillborough County, Florida.

For the total Phase V expansion as amended, FGT proposes to: (1) Acquire an undivided interest in Koch Gateway Pipeline Company's (Koch Gateway) Mobile Bay Lateral in Mobile County, Alabama that will give FGT capacity of 300,000 Dth per day; (2) construct construct approximately 191.5 miles of various diameter pipeline, additional compression totaling 125,215 horsepower, three delivery points, one new supply measurement station, and various other miscellaneous facilities. The proposed Phase V expansion will add an incremental capacity of approximately 305,819 MMBtu per day, on an annual daily average basis (net of turn-back). FGT estimates the total cost to be $476 million, including an estimated $10 million for the proposed acquisition of an interest in the Mobile Bay Lateral.

FGT requests that the Commission issue a preliminary determination on non-environmental issues by November 1, 2000, and a final determination on all certificate issues on or before April 15, 2001. FGT further requests that the Commission allow for a construction period sufficient to accommodate phased in-service dates for specific facilities of October 1, 2001, April 1, 2002, January 1, 2003, and May 1, 2003.

Any person desiring to participate in the hearing process or to make any protest with reference to said application should on or before August 31, 2000, file with the Federal Energy Regulatory Commission, Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to interevene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of the environmental documents and will be able to participate in meetings associated with the Commission's environmental review process. Commenters will not be required to serve copies of filed documents on all other parties. However, commenters will not receive copies of all documents filed by other parties, or issued by the Commission and will not have the right to seek rehearing or appeal the Commission's final order to a federal court.

The Commission will consider all comments and concerns equally, whether filed by commenters or other requesting intervenors status.

Take further notice that, pursuant to the authority contained in and subject to the jurisdiction referred upon the Federal Energy Regulatory Commission by Sections 7 and 15 of the NGA and the Commission's Rules of Practice and Procedure, a hearing will be held without further notice before the Commission or its designee on this application if no motion to intervene is filed within the time required herein, if the Commission or its designee on this application if no motion to intervene is filed within the time required herein, if the commission on its own review of the matter finds that a grant of the certificate is required by the public convenience and necessity. If a motion for leave to intervene is timely filed, or if the Commission on its own motion believes that a formal hearing is required, further notice of such hearing will be duly given.

Under the procedure provided for, unless otherwise advised, it will be unnecessary for FGT to appear or be represented at the hearing.

David P. Boergers,
Secretary.

[FR Doc. 00-20749 Filed 8-15-00; 8:45 am]

BILLING CODE 6717-01-M